NUCLEAR REGULATORY COMMISSION

[NRC-2010-0294]

Criteria for Identifying Material Licensees for the U. S. Nuclear Regulatory Commission's Agency Action Review Meeting

AGENCY: Nuclear Regulatory Commission.

ACTION: Notice of Availability.

SUMMARY: The U.S. Nuclear Regulatory Commission (NRC) is announcing the completion and availability of the new criteria for identifying nuclear material licensees for discussion at the Agency Action Review Meeting (AARM). The criteria may be found in SECY-11-0132 (NRC's Agencywide Documents Access and Management System (ADAMS) Accession Number: ML112280111) or in the supplementary information below.

The AARM is an agency meeting that allows senior NRC managers (1) to review the appropriateness of agency actions that have been taken for those nuclear power plants with significant performance problems as determined by the reactor oversight process (ROP) action matrix, (2) to review the appropriateness of agency actions for those nuclear material licensees, including fuel cycle facilities, with significant safety or security issues, (3) to ensure that coordinated courses of action have been developed and implemented for licensees of concern, (4) to review results of the staff's assessment of ROP effectiveness, including a review of approved deviations from the action matrix, and (5) to ensure that trends in industry and licensee performance are recognized and appropriately addressed.

ADDRESSES: A copy of SECY-11-0132 is available for inspection and/or copying for a fee in the NRC's Public Document Room (PDR), 11555 Rockville Pike, Rockville, Maryland 20874. Publicly available documents created or received at the NRC are accessible electronically through ADAMS in the NRC Library at http://www.nrc.gov/reading-rm/adams.html. From this page, the public can gain entry into ADAMS, which provides text and image files of NRC's public documents. If you do not have access to ADAMS or if there are problems in accessing the documents located in ADAMS, contact the NRC's PDR reference staff at 1-(800) 397-4209, (301) 415-4737, or by email to pdr.resource@nrc.gov.

FOR FURTHER INFORMATION CONTACT: Duane White, Division of Materials Safety and State Agreements, Office of Federal and State Materials and Environmental Management Programs, U.S. Nuclear Regulatory Commission, Washington, DC 20555-0001, telephone (301) 415-6272, email: Duane.White@nrc.gov.

SUPPLEMENTARY INFORMATION

Background

In 2002, the NRC developed a process for providing information to the Commission on significant nuclear materials issues and adverse licensee performance. This process was discussed in SECY-02-0216, “Proposed Process for Providing Information on Significant Nuclear Materials Issues and Adverse Licensee Performance,” dated December 11, 2002. As part of this process, the NRC developed criteria to determine nuclear material licensees with significant performance problems that would be discussed at the AARM. In 2008, the NRC revised the criteria to provide additional clarification regarding the criteria and to incorporate NRC's most recent policies and procedures.

The agency currently identifies nuclear material licensees, including fuel cycle and Agreement State licensees, for AARM discussion based on operating performance, inspection results, and the severity of problems related to safety performance. The agency will continue to identify material licensees based on these same principles; however, one additional element (i.e., criterion), has been added that focuses on those material licensees previously discussed at the AARM who did not address or were ineffective in correcting their underlying issues.

Discussion

Criteria for Identifying Nuclear Material Licensees for Discussion at the AARM

The new criteria for identifying nuclear material licensees for discussion at the AARM may be found in SECY-11-0132 (ADAMS Accession Number: ML112280111) and is provided below.

(1) Strategic Plan—Licensee has an event that results in the failure to meet a strategic outcome for safety and security in the NRC Strategic Plan (NUREG-1614);

(2) Significant Issue or Event—Licensee has an issue or event that results in an abnormal occurrence report to Congress (per NRC Management Directive 8.1), or a severity level I or II violation, as described in the NRC Enforcement Policy (including equivalent violations dispositioned by Alternative Dispute Resolution), or a level 3 or higher International Nuclear Event Scale Report to the International Atomic Energy Agency (per NRC Management Directive 5.12), and there are unique or unusual aspects of the licensee's performance that warrant additional NRC oversight (e.g., a significant event, which requires an incident investigation team (IIT) or augmented inspection team (AIT)); or

(3) Performance Trend—Licensee has multiple and/or repetitive significant program issues identified over more than one inspection, or inspection period, and the issues are supported by severity level I, II, or III violation, as described in the NRC Enforcement Policy (including equivalent violations dispositioned by Alternative Dispute Resolution). Also, there are unique or unusual aspects of the licensee's performance that warrant additional NRC oversight (e.g., oversight panel formed for order implementation); or

(4) Identified for Discussion at Previous AARM—Licensee corrective actions did not address or were ineffective in correcting the underlying issues that were previously discussed at the AARM.

The NRC's strategic plan (NUREG-1614) and the referenced management directives and enforcement policy are available on NRC's public document collections Web page at http://www.nrc.gov/reading-rm/doc-collections/.

Public Comments on the Proposed Criteria

The proposed criteria for identifying nuclear material licensees with significant performance issues were published for comment on September 9, 2010 (75 FR 54917). The comment period ended on October 25, 2010. The NRC received no public comments on the proposed criteria.

Dated at Rockville, Maryland, this 5th day of December 2011.
Mark A. Satorius,
Director, Office of Federal and State Materials and Environmental Management Programs.

[FR Doc. 2011-32065 Filed 12-13-11; 8:45 am]

BILLING CODE 7590-01-P